DEPARTMENT OF JUSTICE

Federal Bureau of Prisons

Notice of Availability of the Environmental Assessment for the Short Term Sentences Acquisition Procurement

AGENCY: U.S. Department of Justice, Federal Bureau of Prisons.

ACTION: Public Comment on Environmental Assessment.

SUMMARY: The U.S. Department of Justice, Federal Bureau of Prisons (BOP) announces the availability of the Environmental Assessment (EA) prepared for the proposed contract to secure additional inmate bed space for the BOP's growing inmate population.

As part of this action, known as the Short Term Sentences Acquisition procurement, the BOP has identified a specific requirement to confine an aggregate population of approximately 3,000 low-security adult male inmates (with one year or less remaining to serve) that are primarily criminal aliens. The BOP is seeking to accommodate the growing federal inmate population by requesting additional contract beds.

In accordance with the National Environmental Policy Act (NEPA) of 1969, the Council of Environmental Quality Regulations (40 CFR parts 1500-1508), and the Department of Justice procedures for implementing NEPA (28 CFR 61), the BOP published an EA on January 28, 2011 which described the potential environmental and other impacts associated with the proposed action to award a contract to one or more private correctional contractors to house a population of approximately 3,000 federal, low-security, adult male inmates that are primarily criminal aliens with one year or less to serve on their sentences. Copies of the EA were distributed to federal, state, regional and local officials, agencies, organizations and the public. Publication of the EA initiated a public comment period lasting no less than 30 days and during that comment period, which ended on February 28, 2011, comments were received from several government agencies and a member of the public.

With the passage of time since the EA was first published, and following a thorough review of all public comments and environmental documentation amassed in support of the proposed action, the BOP determined that it was appropriate and in the best interests of the public to prepare a new EA. This new EA incorporates additional information prepared in response to public comments received by the BOP along with the most current information regarding the alternative facilities. The BOP's EA evaluates the potential environmental consequences of three action alternatives and the No Action Alternative. Natural, cultural, and socioeconomic resource impacts associated with the implementation of the proposed action at each of the alternative locations were analyzed to determine how these resources may be affected by the proposed action.

The alternatives considered in the EA include the use of the following privately-owned and operated facilities: Diamondback Correctional Center, Watonga, Oklahoma; Great Plains Correctional Facility, Hinton, Oklahoma; and Willacy County Processing Center, Raymondville, Texas. The EA also includes information concerning the BOP's preferred alternative. Inmates housed in one or more of these facilities would be primarily criminal aliens who have less than one year remaining to serve of their sentences.

Request for Comments

The BOP invites your participation and is soliciting comments on the EA. The EA will be the subject of a 30-day comment period which begins May 2, 2011 and ends May 31, 2011. Comments concerning the EA and the proposed action must be received during this time to be assured consideration. All written comments received during this review period will be taken into consideration by the BOP. Copies of the EA are available for public viewing at: Watonga Public Library, 301 N. Prouty, Watonga, OK; Norman Smith Memorial Library, 115 E. Main Street, Hinton, OK; and Reber Memorial Library, 193 N. 4th Street, Raymondville, TX.

The EA is available upon request. To request a copy of the EA, please contact: Richard A. Cohn, Chief, or Issac J. Gaston, Site Selection Specialist, Capacity Planning and Site Selection Branch, Federal Bureau of Prisons, 320 First Street, NW., Washington, DC 20534 Tel: 202-514-6470, Fax: 202-616-6024/e-mail: racohn@bop.gov or igaston@bop.gov.

FOR FURTHER INFORMATION CONTACT: Richard A. Cohn, or Issac J. Gaston, Federal Bureau of Prisons.

Dated: April 26, 2011.
Richard A. Cohn,
Chief, Capacity Planning and Site Selection Branch.

[FR Doc. 2011-10751 Filed 4-29-11; 8:45 am]

BILLING CODE P